DEPARTMENT OF THE INTERIOR

National Park Service

[NPS-NER-FIIS-15729; PX.XDESCPP02001]

White-Tailed Deer Management Plan, Draft Environmental Impact Statement, Fire Island National Seashore, New York

AGENCY: National Park Service, Interior.

ACTION: Notice of availability.

SUMMARY: Pursuant to the National Environmental Policy Act of 1969, 42 U.S.C. 4332(2)(C), the National Park Service (NPS) announces the availability of a Draft Environmental Impact Statement (DEIS) for the White-tailed Deer Management Plan (Plan), Fire Island National Seashore, New York. The focus of this plan is to guide and direct deer management strategies that support preservation of the cultural landscape, the protection and natural restoration of native vegetation, and the minimization of human-deer interactions. These strategies include population control of white-tailed deer (lethal and non-lethal) and fencing.

DATES: The National Park Service will accept comments on the DEIS through October 10, 2014, 60 days after the publication in the Federal Register. You may check the Web site of Fire Island National Seashore, www.nps.gov/fiis, for dates, times, and places of public meetings to be conducted by the National Park Service during the 60-day public comment period, or by calling project contacts below.

ADDRESSES: You may submit comments by the following methods:

You may mail comments to: Fire Island National Seashore, 120 Laurel Street, Patchogue, NY 11772-3596.

The preferred method of comment is via the internet at http://parkplanning.nps.gov. The document will be available for public review and comment online at http://parkplanning.nps.gov/fiis, and can be viewed at the following locations: Patchogue-Medford Library, 54-60 East Main Street, Patchogue, NY 11772-3596.

Before including your address, phone number, email address, or other personal identifying information in your comment, you should be aware that your entire comment—including your personal identifying information—might be made publicly available at any time. While you can ask us in your comment to withhold your personal identifying information from public review, we cannot guarantee that we will be able to do so.

FOR FURTHER INFORMATION CONTACT: Project Manager Morgan Elmer at (303) 969-2317.

SUPPLEMENTARY INFORMATION: Fire Island National Seashore (the Seashore), a unit of the National Park System, is located along the south shore of Long Island in Suffolk County, New York. The Seashore encompasses 19,579 acres of upland, tidal, and submerged lands along a 26-mile stretch of the 32-mile barrier island—part of a much larger system of barrier islands and bluffs stretching from New York City to the very eastern end of Long Island at Montauk Point. An extensive dunes system, centuries-old maritime forests, and solitary beaches are easily accessed on Fire Island. Also on Fire Island, within the boundary of the Seashore, are nearly 1,400 acres of federally designated wilderness and the Fire Island Lighthouse. Nearby on Long Island, also part of the Seashore is the William Floyd Estate, the home of one of New York's signers of the Declaration of Independence.

The purpose of this plan is to guide and direct the actions of the NPS in the management of white-tailed deer in Fire Island National Seashore, including the William Floyd Estate on Long Island. The Seashore sustains a white-tailed deer (Odocoileus virginianus) population that has expanded since the late 1960s to the extent that impacts from high densities of deer have impacted and continue to impact the Seashore's ecosystem. As a result, the Seashore is preparing this White-tailed Deer Management Plan and Environmental Impact Statement (plan/EIS). The plan/EIS has been prepared in cooperation with the New York State Department of Environmental Conservation (NYS-DEC) and the U.S. Department of Agriculture (USDA) Animal and Plant Health Inspection Services (APHIS).

The NPS has developed the DEIS under section 102(2)(C) of the National Environmental Policy Act of 1969 and consistent with National Park Service law, regulations, and policies. The DEIS describes and analyzes a No Action alternative (Alternative A) and three action alternatives (Alternatives B, C, and D) to guide management actions and strategies for managing white-tailed deer. The alternatives include lethal and non-lethal actions to manage and reduce the impacts of white-tailed deer.

There are three action alternatives for the management of white-tailed deer.

Alternative B of the plan provides a nonlethal deer reduction option to implement nonsurgical reproductive control of female deer (does) when an acceptable reproductive control agent is available that meets NPS established criteria. Large fence exclosures would also protect the Sunken Forest—a globally rare forest type (holly maritime forest) to allow natural restoration of the forest and culturally significant vegetation at the William Floyd Estate.

Alternative C of the Plan provides a lethal deer reduction option with sharpshooting, controlled public hunt, and limited capture and euthanasia to reduce deer populations to the target density and maintain that level. Similar to alternative B, a large fence exclosure would protect the Sunken Forest.

Alternative D of the Plan provides a combined lethal and nonlethal deer reduction option with sharpshooting, a controlled public hunt and limited capture and euthanasia to reduce deer populations to the target deer density. Once the target density has been reached, and an acceptable reproductive control agent is available that meets NPS established criteria, the use of nonsurgical reproductive control of does would be implemented to maintain deer density at the target level. If an acceptable agent is not available, then population maintenance would occur using lethal methods. Similar to alternative B, large fence exclosures would protect the Sunken Forest and culturally significant vegetation at the William Floyd Estate.

The DEIS evaluates potential environmental consequences of implementing these alternatives. Impact topics include the natural, cultural, and socioeconomic environments.

Dated: June 18, 2014.
Michael A. Caldwell,
Regional Director, Northeast Region, National Park Service.

[FR Doc. 2014-18456 Filed 8-8-14; 8:45 am]

BILLING CODE 4310-WV-P